DEPARTMENT OF AGRICULTURE

Food and Nutrition Service

7 CFR Part 245

Determining Eligibility for Free and Reduced Price Meals and Free Milk in Schools

CFR Correction

In Title 7 of the Code of Federal Regulations, parts 210 to 299, revised as of January 1, 2000, page 285, § 245.6a is corrected by revising the fourth sentence of paragraph (a)(2)(v), and revising the last sentence in paragraph (a)(5) to read as follows:

§ 245.6a Verification requirements.

(a) * * *

(2) * * *

(v) * * * Selected households must also be informed that, in lieu of any information that would otherwise be required, they can submit proof of current food stamp, FDPIR or TANF certification as described in paragraph (a)(3) of this section to verify the free meal eligibility of a child who is a member of a food stamp, FDPIR or TANF household. * * *

* * * * *

(5) * * * Verification of eligibility is not required of households when the determination of eligibility was based on documentation provided by the State or local agency responsible for the administration of the Food Stamp Program, FDPIR or TANF Program, as described in § 245.6(b).

* * * * *

[FR Doc. 00-55508 Filed 5-17-00; 8:45 am]

BILLING CODE 1505-01-D